DEPARTMENT OF THE INTERIOR

National Park Service

[NPS-WASO-NAGPRA-17932;PPWOCRADN0-PCU00RP14.R50000]

Notice of Inventory Completion: California State University, Sacramento, Sacramento, CA, and Notice of Intent To Repatriate Cultural Items: California State University, Sacramento, Sacramento, CA; Correction

AGENCY: National Park Service, Interior.

ACTION: Notice; correction.

SUMMARY: The California State University, Sacramento has corrected a Notice of Inventory Completion and a Notice of Intent to Repatriate Cultural Items published in the Federal Register on February 4, 2015. This notice corrects the Indian tribes determined to be cultural affiliated in both notices. Lineal descendants or representatives of any Indian tribe or Native Hawaiian organization not identified in this notice that wish to request transfer of control of these human remains and cultural items should submit a written request to the California State University, Sacramento. If no additional requestors come forward, transfer of control of the human remains and cultural items to the lineal descendants, Indian tribes, or Native Hawaiian organizations stated in this notice may proceed.

DATES: Lineal descendants or representatives of any Indian tribe or Native Hawaiian organization not identified in this notice that wish to request transfer of control of these human remains and cultural items should submit a written request with information in support of the request to the California State University, Sacramento at the address in this notice by May 28, 2015.

ADDRESSES: Orn Bodvarsson, Dean of the College of Social Sciences and Interdisciplinary Studies, CSUS, 6000 J Street, Sacramento, CA 95819-6109, telephone (916) 278-4864, email obbodvarsson@csus.edu.

SUPPLEMENTARY INFORMATION: Notice is here given in accordance with the Native American Graves Protection and Repatriation Act (NAGPRA), 25 U.S.C. 3003, of the correction of an inventory of human remains and the correction of a notice of intent to repatriate cultural items under the control of the California State University, Sacramento, CA.

This notice is published as part of the National Park Service's administrative responsibilities under NAGPRA, 25 U.S.C. 3003(d)(3). The determinations in this notice are the sole responsibility of the museum, institution, or Federal agency that has control of the Native American human remains and cultural items. The National Park Service is not responsible for the determinations in this notice.

This notice corrects the Indian tribes listed as cultural affiliated as published in a Notice of Inventory Completion in the Federal Register (80 FR 6118, February 4, 2015) and a Notice of Intent to Repatriate in the Federal Register (80 FR 6130, February 4, 2015). The notices should have listed the Buena Vista Rancheria of Me-Wuk Indians of California; California Valley Miwok Tribe, California; Chicken Ranch Rancheria of Me-Wuk Indians of California; Ione Band of Miwok Indians of California; Jackson Rancheria of Me-Wuk Indians of California; Tuolumne Band of Me-Wuk Indians of the Tuolumne Rancheria of California; Wilton Miwok Rancheria, California; and two non-Federally recognized Native American groups: El Dorado Miwok Rancheria; and Nashville-Eldorado Miwok as culturally affiliated. Transfer of control of the items in this correction notice has not occurred.

Correction

In the Federal Register (80 FR 6118, February 4, 2015) paragraph 16, sentence 1 is corrected by substituting the following sentence:

Pursuant to 25 U.S.C. 3001(2), there is a relationship of shared group identity that can be reasonably traced between the Native American human remains and the Buena Vista Rancheria of Me-Wuk Indians of California; California Valley Miwok Tribe, California; Chicken Ranch Rancheria of Me-Wuk Indians of California; Ione Band of Miwok Indians of California; Jackson Rancheria of Me-Wuk Indians of California; Shingle Springs Band of Miwok Indians, Shingle Springs Rancheria (Verona Tract), California; Tuolumne Band of Me-Wuk Indians of the Tuolumne Rancheria of California; United Auburn Indian Community of the Auburn Rancheria of California; Wilton Miwok Rancheria, California; and two non-Federally recognized Native American groups: El Dorado Miwok Rancheria; and Nashville-Eldorado Miwok (if joined to the request of one or more of the foregoing Indian tribes).

In the Federal Register (80 FR 6118, February 4, 2015) paragraph 17, sentence 2 is corrected by substituting the following sentence:

After that date, if no additional requestors have come forward, transfer of control of the human remains to Buena Vista Rancheria of Me-Wuk Indians of California; California Valley Miwok Tribe, California; Chicken Ranch Rancheria of Me-Wuk Indians of California; Ione Band of Miwok Indians of California; Jackson Rancheria of Me-Wuk Indians of California; Shingle Springs Band of Miwok Indians, Shingle Springs Rancheria (Verona Tract), California; Tuolumne Band of Me-Wuk Indians of the Tuolumne Rancheria of California; United Auburn Indian Community of the Auburn Rancheria of California; Wilton Miwok Rancheria, California; and two non-Federally recognized Native American groups: El Dorado Miwok Rancheria; and Nashville-Eldorado Miwok (if joined to the request of one or more of the foregoing Indian tribes) may proceed.

In the Federal Register (80 FR 6130, February 4, 2015) paragraph 15, sentence 1 is corrected by substituting the following sentence:

Pursuant to 25 U.S.C. 3001(2), there is a relationship of shared group identity that can be reasonably traced between the Native American human remains and the Buena Vista Rancheria of Me-Wuk Indians of California; California Valley Miwok Tribe, California; Chicken Ranch Rancheria of Me-Wuk Indians of California; Ione Band of Miwok Indians of California; Jackson Rancheria of Me-Wuk Indians of California; Shingle Springs Band of Miwok Indians, Shingle Springs Rancheria (Verona Tract), California; Tuolumne Band of Me-Wuk Indians of the Tuolumne Rancheria of California; United Auburn Indian Community of the Auburn Rancheria of California; Wilton Miwok Rancheria, California; and two non-Federally recognized Native American groups: El Dorado Miwok Rancheria; and Nashville-Eldorado Miwok (if joined to the request of one or more of the foregoing Indian tribes).

In the Federal Register (80 FR 6130, February 4, 2015) paragraph 16, sentence 2 is corrected by substituting the following sentence:

After that date, if no additional requestors have come forward, transfer of control of the human remains to the Buena Vista Rancheria of Me-Wuk Indians of California; California Valley Miwok Tribe, California; Chicken Ranch Rancheria of Me-Wuk Indians of California; Ione Band of Miwok Indians of California; Jackson Rancheria of Me-Wuk Indians of California; Shingle Springs Band of Miwok Indians, Shingle Springs Rancheria (Verona Tract), California; Tuolumne Band of Me-Wuk Indians of the Tuolumne Rancheria of California; United Auburn Indian Community of the Auburn Rancheria of California; Wilton Miwok Rancheria, California; and two non-Federally recognized Native American groups: El Dorado Miwok Rancheria; and Nashville-Eldorado Miwok (if joined to the request of one or more of the foregoing Indian tribes) may proceed.

Additional Requestors and Disposition

Lineal descendants or representatives of any Indian tribe or Native Hawaiian organization not identified in this notice that wish to claim these human remains and cultural items should submit a written request with information in support of the claim to Orn Bodvarsson, Dean of the College of Social Sciences and Interdisciplinary Studies, CSUS, 6000 J Street, Sacramento, CA 95819-6109, telephone (916) 278-4864, email obbodvarsson@csus.edu, by May 28, 2015. After that date, if no additional requestors have come forward, transfer of control of the human remains and cultural items to the Buena Vista Rancheria of Me-Wuk Indians of California; California Valley Miwok Tribe, California; Chicken Ranch Rancheria of Me-Wuk Indians of California; Ione Band of Miwok Indians of California; Jackson Rancheria of Me-Wuk Indians of California; Shingle Springs Band of Miwok Indians, Shingle Springs Rancheria (Verona Tract), California; Tuolumne Band of Me-Wuk Indians of the Tuolumne Rancheria of California; United Auburn Indian Community of the Auburn Rancheria of California; Wilton Miwok Rancheria, California; and two non-Federally recognized Native American groups: El Dorado Miwok Rancheria; and Nashville-Eldorado Miwok (if joined to the request of one or more of the foregoing Indian tribes) may proceed.

California State University, Sacramento is responsible for notifying the Buena Vista Rancheria of Me-Wuk Indians of California; California Valley Miwok Tribe, California; Chicken Ranch Rancheria of Me-Wuk Indians of California; Ione Band of Miwok Indians of California; Jackson Rancheria of Me-Wuk Indians of California; Shingle Springs Band of Miwok Indians, Shingle Springs Rancheria (Verona Tract), California; Tuolumne Band of Me-Wuk Indians of the Tuolumne Rancheria of California; United Auburn Indian Community of the Auburn Rancheria of California; Wilton Miwok Rancheria, California; and two non-Federally recognized Native American groups: El Dorado Miwok Rancheria; and Nashville-Eldorado Miwok that this notice has been published.

Dated: March 19, 2015.
Mariah Soriano,
Acting Manager, National NAGPRA Program.

[FR Doc. 2015-09897 Filed 4-27-15; 8:45 am]

BILLING CODE 4312-50-P